DEPARTMENT OF HOMELAND SECURITY

Senior Executive Service Performance Review Board

AGENCY: Office of the Secretary, DHS.

ACTION: Notice.

SUMMARY: This notice announces the appointment of the members of the Senior Executive Service Performance Review Boards for the Department of Homeland Security. The purpose of the Performance Review Board (PRB) is to view and make recommendations concerning proposed performance appraisals, ratings, bonuses, pay adjustments, and other appropriate personnel actions for incumbents of Senior Executive Service, Senior Level and Senior Professional positions of the Department.

DATES: This Notice is effective September 22, 2016.

FOR FURTHER INFORMATION CONTACT: Elizabeth Haefeli, Office of the Chief Human Capital Officer, telephone (202) 357-8164.

SUPPLEMENTARY INFORMATION: Each Federal agency is required to establish one or more performance review boards to make recommendations, as necessary, in regard to the performance of senior executives within the agency. 5 U.S.C. 4314(c). This notice announces the appointment of the members of the PRB for the Department of Homeland Security (DHS). The purpose of the PRB is to review and make recommendations concerning proposed performance appraisals, ratings, bonuses, pay adjustments, and other appropriate personnel actions for incumbents of SES positions within DHS.

The Board shall consist of at least three members. In the case of an appraisal of a career appointee, more than half of the members shall consist of career appointees. Composition of the specific PRBs will be determined on an ad hoc basis from among the individuals listed below:

Agarwal, Nimisha

Albence, Matthew T.

Allen, Matthew C.

Alles, Randolph D.

Allison, Roderick J.

Anderson, Sandra D.

Asseng Jr., George A.

Awni, Muhammad H.

Ayala, Janice

Bailey, Angela

Baker, Paul E.

Baroukh, Nader

Barrera, Staci A.

Bartlett, Jonathan M.

Benner, Derek N.

Borkowski, Mark S.

Braccio, Dominick D.

Brinsfield, Kathryn

Brothers, L. Reginald

Brown, A Scott

Brown, Dallas C.

Brown, Michael C.

Brunjes, David H.

Bunnell, Steven E.

Caggiano, Marshall L.

Cahill, Donna L.

Callahan, Colleen B.

Callahan, William J.

Carpenter, Dea D.

Carraway, Melvin

Carver, Jonathan Ira

Castro, Raul

Chavez, Richard

Cheng, Wen Ting

Clancy, Joseph P.

Cogswell, Patricia F.

Davis, Diana L.

Davis, Michael P.

DiFalco, Frank

DiPietro, Joseph R.

Dolan, Mark E.

Dougherty, Thomas E.

Dunbar, Susan Cullen

Edge, Peter T.

Edwards, B. Roland

Erichs, Alysa D.

Fallon, William T.

Falk, Scott K.

Fenton, Jennifer M.

Fields, Kathy

Fitzmaurice, Stacey D.

Fleming, Gwen K.

Fluty, Larry

Foucart, Bruce M.

Fujimura, Paul N.

Fulghum , Charles

Gallihugh II, Ronald B.

Gladwell, Angela

Glawe, David J.

Gowadia, Huban

Griffin, Robert

Griggs, Christine

Gunter, Brett A.

Hall, Christopher J.

Harris, Melvin

Havranek, John F.

Healy, Craig C.

Heller, Susan J.

Henderson, Latetia M.

Hess, David

Higgins, Jennifer

Hochman, Kathleen T.

Homan, Thomas

Hutchinson, Kimberly S.

Isbell, Valerie S.

Jacksta, Linda L.

Jaddou, Ur M.

Jenkins, Jr., Kenneth T.

Jeronimo, Jose M.

Johnson, Tae D.

Jones, Franklin C.

Jones, Keith A.

Jones, Sophia D.

Karoly, Stephen J.

Kelly, William G. RDML

Kerner, Francine

Kerns, Kevin

King, Tatum S.

Klein, Matthew

Koumans, Mark R.

Kronisch, Matthew L.

Kruger, Mary

Kubiak, Lev J.

LaJoye, Darby R.

Landfried, Phillip A.

Langlois, Joseph E.

Lanum, Scott F.

Lechleitner, Patrick J.

Lewis, Donald R.

Lowery, III, Edward W.

Luck, Scott A.

Ludtke, Meghan G.

Magaw, Craig D.

Maher, Joseph B.

Manaher, Colleen M.

Marcott, Stacy

Mayenschein, Eddie D.

McAleenan, Kevin K.

McDonald, Christina E.

Mclane, Jo Ann

McShaffrey, Richard S.

Meckley, Tammy M.

Melero, Mariela

Micone, Vincent

Miles, Jere T.

Miller, Philip T.

Mitchell, Ernest

Moore, Joseph D.

Morgan, Mark A.

Moskowitz, Brian M.

Moynihan, Timothy M.

Mulligan, George D.

Mulligan, Scott E.

Nally, Kevin

Neufeld, Donald W.

Newhouse, Victoria E.

O'Connor, Kimberly

Owen, Todd C.

Padilla, Kenneth

Palmer, David J.

Pane, Karen W.

Paramore, Faron K.

Patrick, Connie L.

Patterson, Eric

Pineiro, Marlen

Provost, Carla L.

Ragsdale, Daniel H.

Rahilly, Lyn M.

Raj, Kiran S.

Ramlogan Seuradge, Riah

Rasicot, Gary

Reid, Paula A.

Renaud, Daniel M.

Renaud, Tracy L.

Rice, Stephen

Risley, Lisa

Rittenberg, Scot R.

Robbins, Timothy S.

Roberts, Russell A.

Roger, Debra A.

Rose Jr., Pat A.

Rosenberg, Ronald M.

Ruppel, Joanna

Ryan, Paul

Samaan, Robert

Saunders, Ian C.

Scanlon, Julie A.

Schied, Eugene H.

Scott, Kika Mary

Sevier, Adrian

Shahoulian, David

Shelton Waters, Karen R.

Short, Victoria

Silvers, Robert

Smith, Brenda B.

Sutherland, Daniel W.

Swartz, Neal J.

Sykes, Gwendolyn

Taylor, Francis

Terrell, Joseph P.

Trotta, Nicholas

Ulrich Ii, Dennis A.

Valerio, Tracey A.

Vaughan, Jill A.

Venture, Veronica

Villanueva, Raymond

Vitiello, Ronald D.

Wagner, John P.

Walton, Kimberly H.

Whittenburg, Cynthia F.

Williams, Dwight

Williams, Jaye F.

Windham, Nicole

Young, Edward E.

This notice does not constitute a significant regulatory action under sec. 3(f) of E.O. 12866. Therefore, DHS has not submitted this notice to the Office of Management and Budget. Further, because this notice is a matter of agency organization, procedure and practice, DHS is not required to follow the rulemaking requirements under the Administrative Procedure Act (5 U.S.C. 553).

Dated: September 13, 2016.
Thomas Vieira,
Manager, Executive Resources Policy, Office of the Chief Human Capital Officer.

[FR Doc. 2016-22786 Filed 9-21-16; 8:45 am]

BILLING CODE 9110-9B-P